ENVIRONMENTAL PROTECTION AGENCY

[FRL-8305-5]

Science Advisory Board Staff Office Notification of a Meeting of the Science Advisory Board Homeland Security Advisory Committee

AGENCY: Environmental Protection Agency (EPA).

ACTION: Notice.

SUMMARY: The EPA Science Advisory Board (SAB) Staff Office announces a public face-to-face meeting of the SAB Homeland Security Advisory Committee (HSAC) to consult on two developing projects: the Emergency Consequence Assessment Tool (ECAT), and the Preliminary Microbial Risk Assessment Methodologies (MRA).

DATES: The meeting dates are Wednesday, May 30, 2007, from 9 a.m. to 6 p.m. and Thursday, May 31, 2007 from 8:30 a.m. to 12 noon (eastern standard time).

ADDRESSES: The meeting will be held at the U.S. EPA Science Advisory Board Staff Office Conference Room, Third Floor, 1025 F Street, NW., Suite 3700, Washington, DC 20004.

FOR FURTHER INFORMATION CONTACT: Members of the public who wish to obtain further information about this meeting may contact Ms. Vivian Turner, Designated Federal Officer (DFO), by mail at EPA SAB Staff Office (1400F), U.S. EPA, 1200 Pennsylvania Avenue, NW., Washington, DC 20460; by telephone at (202) 343-9697; by fax at (202) 233-0643; or by e-mail at turner.vivian@epa.gov. The SAB mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION:

Background

EPA's National Homeland Security Research Center (NHSRC) is developing an interactive online risk assessment and management software tool to provide health advisors and other emergency response officials with rapid access to critical information during an environmental emergency or training exercise. The Emergency Consequence Assessment Tool (ECAT) is designed to assess and provide site-specific numeric estimates of health risks for selected chemical, biological and radiological threat agents; and identify what response actions might be appropriate to mitigate health risks. Additionally, NHSRC is conducting research to assist program offices and decision-makers in: (1) Assessing the hazard and risk of exposure to highly toxic chemical and biological agents after deliberate contamination, and (2) deriving decontamination goals for cleanup and re-entry to contaminated buildings. One of the most important issues in regards to biological threat agents is the development of a risk assessment methodology to accomplish these goals. Currently, there is no consensus-based methodology for evaluating biological contaminants and establishing cleanup levels. To address this gap, the research being conducted is evaluating the strengths and weaknesses of existing biological risk assessment methods and tools to develop a preliminary incident-based Microbial Risk Assessment (MRA) Framework. The preliminary MRA framework represents an initial template and decision tool that addresses information gathering and decision support activity to conduct risk assessment over projected time intervals following the incident. The MRA framework is organized to support initial site assessment followed by more in-depth hazard and exposure assessment methodologies as additional site and hazard information is accumulated from the ongoing investigations and sampling analyses. Two primary goals of the framework are to address the uncertainties of the many unknown variables associated with biothreat agents and deriving preliminary acceptable decontamination goals other than “zero”. In the context of deriving safe cleanup levels for biothreat agents, the applicability and quality of existing data on biological organisms and the research conducted to fill critical gaps in this data are key to continued progress in this area. The NHSRC has requested the SAB to provide technical advice regarding the development of ECAT and MRA. The SAB was established by 42 U.S.C. 4365 to provide independent scientific and technical advice, consultation, and recommendations to the EPA Administrator. The SAB HSAC will be augmented with other SAB members to conduct these consultations through the Chartered SAB. The HSAC will provide advice to the Agency on the preliminary versions of the ECAT and the MRA and early recommendations for the future development and application of both.

Availability of Meeting Materials

A roster of committee members, their biographical sketches, and the meeting agenda will be placed on the SAB Web site at http://www.epa.gov/sab in advance of this meeting. Dr. Kevin Garrahan (garrahan.kevin@epa.gov) is the technical contact for ECAT and Dr. Tonya Nichols (nichols.tonya@epa.gov) is the technical contact for MRA. Access to ECAT and MRA materials will be available on the NHSRC Web site: http://www.epa.gov/nhsrc.

Procedures for Providing Public Input

Interested members of the public may submit relevant written or oral information for the SAB to consider during the advisory process.

Oral Statements: In general, individuals or groups requesting an oral presentation at a public meeting will be limited to five minutes per speaker, with no more than one hour for all speakers. Interested parties should contact Ms. Turner, DFO, at the contact information provided above, by May 23, 2007, to be placed on the public speaker list for the May 30-31, 2007 meeting.

Written Statements: Written statements should be received in the SAB Staff Office by May 23, 2007, so that the information may be made available to the SAB for their consideration prior to this meeting. Written statements should be supplied to the DFO in the following formats: one hard copy with original signature at the mailing address provided above, and one electronic copy via e-mail to turner.vivian@epa.gov (acceptable file format: Adobe Acrobat PDF, WordPerfect, MS Word, MS PowerPoint, or Rich Text files in IBM-PC/Windows 98/2000/XP format).

Meeting Accommodations

For information on access or services for individuals with disabilities, please contact Ms. Vivian Turner at (202) 343-9697, or via e-mail at turner.vivian@epa.gov. To request accommodation of a disability, please contact Ms.Turner, preferably at least 10 days prior to the meeting, to give EPA as much time as possible to process your request.

Dated: April 19, 2007.
Anthony F. Maciorowski,
Deputy Director, EPA Science Advisory Board Staff Office.

[FR Doc. E7-7893 Filed 4-24-07; 8:45 am]

BILLING CODE 6560-50-P